DEPARTMENT OF HEALTH AND HUMAN SERVICES

Indian Health Service

Notice of Tribal Consultation and Urban Confer Sessions on the State of the Great Plains Area Indian Health Service; Correction

AGENCY: Indian Health Service (IHS), Department of Health and Human Services.

ACTION: Notice; Correction.

SUMMARY: The Indian Health Service (IHS) published a document in the Federal Register on June 3, 2016, for the Notice of Tribal Consultation and Urban Confer Sessions on the State of the Great Plains Area Indian Health Service. The date and location of the onsite consultation session has been changed as reflected in this correction notice.

FOR FURTHER INFORMATION CONTACT: CAPT Chris Buchanan, Acting Director, Great Plains Area, Indian Health Service, 115 4th Ave. SE., Suite 309, Aberdeen, South Dakota, (605) 226-7584, Fax (605) 226-7541.

Correction

In the Federal Register of June 3, 2016, in FR Doc. 2016-13135, on page 35786, in the third column, under the heading SUMMARY, delete “July 13, 2016 in Aberdeen, South Dakota”, and insert “July 15, 2016.” On page 35786, in the third column, under the heading DATES, delete both references to Aberdeen, South Dakota in the first and second paragraphs. On page 35786, in the third column, under the heading ADDESSES, delete “The Dakota Event Center located at 720 Lamont Street, Aberdeen, South Dakota”, and insert “The Best Western Ramkota Hotel located at 2111 N. Lacrosse Street, Rapid City, SD 57701”.

Dated: June 29, 2016.
Elizabeth A. Fowler,
Deputy Director for Management Operations, Indian Health Service.

[FR Doc. 2016-16135 Filed 7-6-16; 8:45 am]

BILLING CODE 4165-16-P